DEPARTMENT OF ENERGY

Federal Energy Regulatory Commission

[Project No. 2970-004]

The Village of Argyle, Wisconsin; Notice of Effectiveness of Withdrawal of Application for Surrender of Exemption From Licensing

On October 6, 2021, the Village of Argyle, Wisconsin (exemptee) filed an application to surrender its exemption from licensing for the 50-kilowatt Argyle Hydroelectric Project No. 2970. On July 5, 2023, the licensee filed a notice of withdrawal of the surrender application. The project is located on the East Branch Pecatonica River, in Argyle, Lafayette County, Wisconsin.

No motion in opposition to the notice of withdrawal has been filed, and the Commission has taken no action to disallow the withdrawal. Pursuant to Rule 216(b) of the Commission's Rules of Practice and Procedure,¹ the withdrawal of the application became effective on July 20, 2023, and this proceeding is hereby terminated.

¹ 18 CFR 385.216(b) (2022).

Dated: September 19, 2023.
Kimberly D. Bose,
Secretary.

[FR Doc. 2023-20728 Filed 9-22-23; 8:45 am]

BILLING CODE 6717-01-P